DEPARTMENT OF TRANSPORTATION

Federal Aviation Administration

Notice of Passenger Facility Charge (PFC) Approvals and Disapprovals

AGENCY: Federal Aviation Administration (FAA), DOT.

ACTION: Monthly Notice of PFC Approvals and Disapprovals. In October 2002, there were eight applications approved. This notice also includes information on application, approved in August 2001, inadvertently left off the August 2001 notice. Additionally, seven approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: City of Lebanon, New Hampshire.

Application Number: 01-04-C-00-LEB.

Application Type: Impose and use a PFC.

PFC Level: $3.00.

Total PFC Revenue Approved in this Decision: $77,330.

Earliest Charge Effective Date: September 1, 2001.

Estimated Charge Expiration Date: March 1, 2002.

Classes of Air Carriers Not Required To Collect PFC's: Air taxi/commercial operators—nonscheduled/on-demand air carriers.

Determination: Approved. Based on information contained in the public agency's application, the FAA has determined that each approved class accounts for less than 1 percent of the total annual enplanements at Lebanon Municipal Airport.

Brief Description of Projects Approved for Collection and Use:

Reconstruct north ramp, including adjacent taxiways.

Reconstruct emergency access road.

Construct aircraft rescue and firefighting vehicle ramp.

Install airfield control and power cables.

Groove runway 7/25.

Engineering.

Airport master plan update.

PFC administration

Decision Date: August 2, 2001.

FOR FURTHER INFORMATION CONTACT: Priscilla Scott, New England Region Airports Division, (781) 238-7614.

Public Agency: Blair County Airport Authority, Martinsburg, Pennsylvania.

Application Number: 02-04-U-00-AOO.

Application Type: Use PFC revenue.

PFC Level: $3.00.

Total PFC Revenue To Be Used in This Decision: $43,610.

Charge Effective Date: July 1, 2000.

Estimated Charge Expiration Date: March 1, 2003.

Class of Air Carriers Not Required To Collect PFC's: No change from previous decision.

Brief Description of Project Approved for Use: Avigation easement acquisition and obstruction removal.

Decision Date: October 1, 2002.

FOR FURTHER INFORMATION CONTACT: Sharon Daboin, Harrisburg Airports District Office, (717) 730-2830.

Public Agency: City of La Crosse, Wisconsin.

Application Number: 02-06-C-00-LSE.

Application Type: Impose and use a PFC.

PFC Level: $4.50.

Total PFC Revenue Approved in This Decision: $1,022,045.

Earliest Charge Effective Date: January 1, 2003.

Estimated Charge Expiration Date: May 1, 2005.

Class of Air Carriers Not Required To Collect PFC's: Air taxis filing FAA Form 1800-31, except commuter air carriers.

Determination: Approved. Based on information contained in the public agency's application, the FAA has determined that the approved class accounts for less than 1 percent of the total annual enplanements at La Crosse Municipal Airport.

Brief Description of Projects Approved for Collection and Use:

Reconstruct runway 13/31.

Baggage handling system.

Airfield electrical upgrades phase 1.

Airport snow removal equipment.

Terminal development.

PFC administration.

Environmental assessment.

Decision Date: October 3, 2002.

FOR FURTHER INFORMATION CONTACT: Sandra E. DePottey, Minneapolis Airports District Office, (612) 713-4363.

Public Agency: City of Atlanta, Georgia.

Application Number: 03-03-C-00-ATL.

Application Type: Impose and use a PFC.

PFC Level: $4.50.

Total PFC Revenue Approved in This Decision: $1,269,547,063.

Earliest Charge Effective Date: May 1, 2005.

Estimated Charge Expiration Date: October 1, 2013.

Class of Air Carriers Not Required to Collect PFC's: Air taxi/commercial operators with limited, irregular, and special service operations.

Determination: Approved. Based on information contained in the public agency's application, the FAA has determined that the approved class accounts for less than 1 percent of the total annual enplanements at Hartsfield Atlanta International Airport.

Brief Description of Projects Approved for Collection and Use at a $4.50 PFC Level:

Construction of fifth runway.

Taxiway L extension.

Taxiway construction and intersection upgrades.

Airfield pavement replacement.

Airfield lighting system.

Surface movement guidance system.

Brief Description of Project Approved for Collection and Use at a $3.00 PFC Level: Approach clearing and landscape safety.

Brief Description of Project Approved for Collection at a $4.50 PFC Level: End around taxiway.

Brief Description of Project Approved for Collection at a $3.00 PFC Level: Airport access road.

Brief Description of Project Partially Approved for Collection at a $3.00 PFC Level: Consolidated rental car facility automated people mover system.

Determination: The maintenance facility element of the project was determined to be ineligible in accordance with paragraph 622 of FAA Order 5100.38B, Airport Improvement Program Handbook (May 31, 2002).

Decision Date: October 10, 2002.

FOR FURTHER INFORMATION CONTACT: Terry R. Washington, Atlanta Airports District Office, (404) 305-7143.

Public Agency: City of Pullman, Washington.

Application Number: 02-03-U-00-PUW.

Application Type: $4.50.

Total PFC Revenue To Be Used in This Decision: $290,000.

Charge Effective Date: February 1, 2000.

Estimated Charge Expiration Date: May 1, 2004.

Class of Air Carriers Not Required to Collect PFC's: No change from previous decision.

Brief Description of Projects Approved for Use:

Purchase land leased from Washington State University.

Purchase new snowplow.

Rehabilitate terminal apron.

Rehabilitate runway 5.23

Taxiway edge lighting.

Decision Date: October 17, 2002.

FOR FURTHER INFORMATION CONTACT: Susanne Lee-Pang, Seattle Airports District Office, (425) 227-2654.

Public Agency: Toledo-Lucas County Port Authority, Toledo, Ohio.

Application Number: 02-04-C-00-TOL.

Application Type: Impose and use a PFS.

PFC Level: $4.50.

Total PFC Revenue Approved in This Decision: $3,921,997.

Earliest Charge Effective Date: December 1, 2003.

Estimated Charge Expiration Date: November 1, 2006.

Class of Air Carriers Not Required To Collect PFC's: Non-scheduled/on-demand air taxi operators filing FAA Form 1800-31.

Determination: Approved. Based on information contained in the public agency's application, the FAA has determined that the approved class accounts for less than 1 percent of the total annual enplanements at Toledo Express Airport.

Brief Description of Projects Approved for collection and Use:

Terminal roadway reconstruction.

Reconstruct air carrier apron.

Purchase snow removal equipment.

Terminal renovations: heating, ventilation, and air conditioning units; and multiple user flight information display system.

Replace aircraft rescue and firefighting vehicle.

Jetway replacement.

Taxiway D extension.

Decision Date: October 22, 2002.

FOR FURTHER INFORMATION CONTACT: Arlene B. Draper, Detroit Airports District Office, (734) 487-7282.

Public Agency: City of Pullman, Washington.

Application Number: 02-04-C-00-PUW.

Application Type: Impose and use a PFC.

PFC Level: $4.50.

Total PFC Revenue Approved in This Decision: $89,900.

Earliest Charge Effective Date: May 1, 2004.

Estimated Charge Expiration Date: January 1, 2005.

Class of Air Carriers Not Required To Collect PFC's: Air taxi operators who conduct operation sin air commerce carrying persons for compensation on hire.

Determination: Approved. Based on information contained in the public agency's application, the FAA has determined that the approved class accounts for less than 1 percent of the total annual enplanements at Pullman-Moscow Regional Airport.

Brief Description of Projects Approved for collection and Use:

Purchase Kopf, LLC property.

Snow removal equipment building expansion.

Security enhancements.

Airfield friction meter device.

Construct parking lot (non-revenue).

Decision Date: October 25, 2002.

FOR FURTHER INFORMATION CONTACT: Suzanne Lee-Pang, Seattle Airports District Office, (425) 227-2654.

Public Agency: Susquehanna Area Regional Airport Authority, Middletown, Pennsylvania.

Application Number: 02-04-C-00-MDT.

Application Type: Impose and use a PFC.

PFC Level: $4.50.

total PFC Revenue Approved in This Decision: $66,334,500.

Earliest Charge Effective Date: January 1, 2003.

Estimated Charge Expiration Date: August 1, 2020.

Class of Air Carriers Not Required To Collect PFC's: Non-scheduled/on-demand air carriers.

Determination: Approved. Based on information contained in the public agency's application, the FAA has determined that the approved class accounts for less than 1 percent of the total annual enplanements at Harrisburg International Airport.

Brief Description of Projects Approved For Collection and Use at a $4.50 PFC Level:

Construct parallel taxiway, taxilanes, and lighting.

NAVAIDS and runway lighting.

Construct terminal and related work.

Preparation of PFC application.

Brief Description of Project Approved for Use at a $3:00 PFC Level: Relocate terminal loop road.

Decision Date: October 31, 2002.

FOR FURTHER INFORMATION CONTACT: Lori Ledebohm, Harrisburg Airports District Office, (717) 730-2835.

Public Agency: Salt Lake City Department of Airports, Salt Lake City, Utah.

Application Number: 02-05-C-00-SLC.

Application Type: Impose and use a PFC.

PFC Level: $4.50.

Total PFC Revenue Approved in This Decision: $19,001,300.

Earliest Charge Effective Date: February 1, 2003.

Estimated Charge Expiration Date: September 1, 2003.

Class of Air Carriers Not Required To Collect PFC's: Air taxi/commercial operators filing FAA Form 1800-31.

Determination: Approved. Based on information contained in the public agency's application, the FAA has determined that the approved class accounts for less than 1 percent of the total annual enplanements at Salt Lake City International Airport (SLC).

Brief Description of Projects Approved for Collection at SLC and Use at SLC at a $4.50 PFC Level:

Concourse A apron expansion.

Concourse A apron reconstruction, phase I.

Concourse A apron reconstruction, phase II.

Deicing lagoon upgrade.

Security identification display area perimeter patrol road, phase I.

Security identification display area perimeter patrol road, phase II.

Taxiway H reconstruction H10-H12.

Taxiway H reconstruction H7-H10.

Terminal unit 2 checked baggage and screening checkpoint queuing modifications.

Concourse E SkyWest Interim facility.

Land acquisition for approach protection and noise compatibility, phase I.

Terminal roadway security improvements, phase II.

Brief Description of Projects Approved for Collection at SLC and Use at SLC at a $3.00 PFC Level:

Airport layout plan/environmental update, phase I.

Electronic visual information display system installation.

East apron rehabilitation, phase II.

East apron rehabilitation, phase III.

Surface condition analyzer upgrade.

Brief Description of Project Approved for Collection at SLC and Use at Salt Lake City Municipal Airport II at a $3.00 PFC Level:

Runway overlay.

Brief Description of Project Approved for Collection at SLC and Use at Tooele Valley Airport at a $3.00 PFC Level: Runway 16/34 widening and extension.

Brief Description of Disapproved Project: East side oil/water separator.

Determination: The FAA has determined that the project does not meet any of the objectives of § 158.15(a). The public agency did not provide documentation regarding project justification, nor did it demonstrate compliance with Advisory Circular 150/5320-15 for water quality equipment.

Decision Date: October 31, 2002.

FOR FURTHER INFORMATION CONTACT: Christopher J. Schaffer, Denver Airports District Office, (303) 342-1258.

Amendments to PFC Approvals

Amendment No. city, state | Amendment approved date | Original approved net PFC revenue | Amended approved net PFC revenue | Original estimated charge ext. date | Amended estimated charge ext. date
00-06-C-02-CRW Charleston, WV | 09/24/02 | $1,051,081 | $1,141,822 | 09/01/01 | 09/01/01
99-06-C-01-STT St. Thomas, VI | 10/02/02 | 3,000,000 | 3,450,000 | 12/01/02 | 12/01/02
99-04-C-02-EYW Key West, FL | 10/08/02 | 1,596,503 | 1,344,903 | 08/01/01 | 06/01/01
01-05-C-01-EYW Key West, FL | 10/09/02 | 1,631,431 | 1,042,931 | 04/01/04 | 06/01/03
92-01-I-03-BUF Buffalo, NY | 10/30/02 | 81,167,538 | 62,817,833 | 05/01/05 | 01/01/05
92-02-C-04-BUF Buffalo, NY | 10/30/02 | 5,757,959 | 2,528,721 | 09/01/15 | 06/01/05
98-03-C-02-BUF Buffalo, NY | 10/30/02 | 2,659,807 | 1,902,652 | 07/01/15 | 10/01/05

Issued in Washington, DC on November 21, 2002.
Barry Molar,
Manager, Airports Financial Assistance Division.

[FR Doc. 02-30336 Filed 11-29-02; 8:45 am]

BILLING CODE 4910-13-M